DEPARTMENT OF HEALTH AND HUMAN SERVICES

Indian Health Service

Injury Prevention Program; Announcement Type: Cooperative Agreement

Funding Announcement Number: HHS-2010-IHS-IPP-0001.

Catalog of Federal Domestic Assistance Number: 93.284.

Key Dates

Application Deadline Date: May 28, 2010.

Review Date: June 8-9, 2010.

Earliest Anticipated Start Date: July 1, 2010.

I. Funding Opportunity Description

Statutory Authority

The Indian Health Service (IHS) announces competitive cooperative agreement (CA) funding for the Injury Prevention Program (IPP) for American Indians and Alaska Natives (AI/AN). This program is described at 93.284 in the Catalog of Federal Domestic Assistance. The program is authorized under 25 U.S.C. 13, Snyder Act, and 42 U.S.C. 301(a), Public Health Service Act, as amended.

Background

Injury is a leading cause of death and disability for AI/AN communities. Injuries cause more deaths among AI/AN ages 1-44 than all other causes combined (Trends in Indian Health 2002-2003 Edition, IHS, Division of Program Statistics). The purpose of the IHS CA funding is to promote the capacity of Tribes and Tribal/urban/non-profit Indian organizations to build sustainable evidence-based IPP. Capacity building supports initiatives for sustaining Tribal ownership of IPP. This includes identifying priorities for planning, implementation, and evaluation of comprehensive IPP. A comprehensive approach in IPP includes: (1) Education; (2) enforcement or policy development; and (3) environmental modifications. This funding will provide an opportunity for Tribes to design effective and innovative strategies in the prevention of injuries. The IHS IPP funding will be a competitive application process for new and existing Tribal IPP. The IHS IPP funding will target two priority areas: motor vehicle-related injuries and unintentional fall prevention for ages +65 years. The priorities integrate the effective strategies for motor vehicle and unintentional fall prevention published at the Centers for Disease Control and Prevention (CDC) Web site: http://www.cdc.gov/injury.

Purpose

The IHS will accept CA applications for two categories that support AI/AN: Part I and Part II:

(A) PART I includes two categories, (a) new applicants and (b) previously funded Part I applicants. All Part I applicants must meet the IHS minimum user population of 2,500. The population limit is set by the IHS IPP and not by the IHS. IHS user population is defined as AI/AN people who have utilized services funded by the IHS as least once during the last three-year period.

(a) Part I (a) applicants are new to Tribal IPPs and have not received IHS Injury Prevention funding within the past two years.

(b) Previously funded Part I (b) applicants are the 2005-2010 Tribal Injury Prevention Cooperative Agreement Program (TIPCAP) grantees.

(B) PART II is for applicants that will use effective strategies in 3-year projects with no population requirements.

II. Award Information

Type of Awards: Cooperative Agreement.

Estimated Funds Available: The total amount of funding identified for Fiscal Year 2010 is $2.275 million.

The funding levels will range from $10,000 to $80,000 for each category outlined within the announcement. All awards, new and previously funded are subject to the availability of funds. In the absence of funding, the agency is not under any obligation to issue awards.

Anticipated Number of Awards: Approximately 40 awards will be issued under this CA program. Injury Prevention applicants may apply for more than one of the areas of funding (Part I (a) or (b) and/or Part II) but only one will be awarded.

Part I (a) New: up to $65,000.

Part I (b) Previously funded: up to $80,000.

Part II Effective Strategy Projects: $10,000.

Project Period: This is a 5 year project for Part I and 3 years for Part II.

Programmatic Involvement: The IPP staff will provide substantial oversight to monitor evidence based, effective and innovative strategies for high quality performance in sustaining capacity of the AI/AN IPP.

IHS Injury Prevention Program (IPP) Priorities

The IHS IPP priorities are: (1) Motor vehicle; and (2) unintentional fall prevention. Only evidence based effective strategies that are proven effective will be considered. Motor vehicle related injuries and deaths impact AI/AN communities in catastrophic proportions. It is the leading cause of disability, years of potential life lost, and medical and societal cost. Effective strategies are those that reduce motor vehicle-related injuries and fatalities and are well documented. These strategies to reduce motor vehicle related injuries and fatalities include increasing occupant restraint use (all ages), helmet use, Tribal motor vehicle policy development, enforcement of traffic safety, environmental modifications to improve roadway, lighting of roadways and pedestrian safety. Effective strategies to reduce motor vehicle injuries can be found at: http://www.cdc.gov/MotorvehicleSafety/index.html.

Unintentional fall related injuries are a leading cause of hospitalizations in AI/AN communities. Unintentional falls reduce independence and quality of life for adults ages 65 and older. In the United States, every 18 seconds, an older adult is treated in an emergency department for a fall, and every 35 minutes someone in this population dies as a result of their injuries. A comprehensive approach in the prevention of fall related injuries is recommended. These approaches must include documentation of collaboration with a multidisciplinary team that includes the: (1) Clinical staff (M.D., pharmacy, physical therapy, dietitian, optometrist, etc); (2) an exercise program (senior centers, Health Promotion/Disease Prevention, Public Health Nurses, Community Health Representative, etc); and (3) home safety assessment and improvements (home health aid, environmental health, injury prevention specialist, etc).

Effective strategies for unintentional fall prevention can be found at: http://www.cdc.gov/HomeandRecreationalSafety/Falls/html. Consideration will be given to proposals that incorporate proven effective strategies to address injury prevention. Please visit the IHS IPP Web site for further information on effective strategies: http://www.injprev.ihs.gov. Additional resources can be found at: http://www.safetylit.org/archive.htm and at the Online Search, Consultation and Reporting (OSCAR) http://www.ihs.gov/OSCAR.

The IPP oversight will include an outside contractor that will provide support for the IHS program official to successfully monitor progress. The IHS contractor will provide support for the IHS responsibilities listed below. The IHS contractor will be responsible for providing technical assistance to the grantees, projects reporting assistance, scheduling conference calls, issuing newsletters, and performing pro-active site visits. The IHS contractor serves as a liaison to the IHS IPP Manager and the Tribal Injury Prevention CA grantee. IHS and the contractor will coordinate an annual training workshop for the Tribal Injury Prevention project coordinators and their IHS project officers to share lessons learned, program successes, and new state-of-the-art or innovative strategies to reduce injuries in Indian communities.

Specific responsibilities of the IHS and grantee for the CA for Part I are listed below in Sections 1 and 2.

1. The responsibilities for the grantee to satisfy the requirements for Part I (a) new and (b) previously funded are as follows:

• A Tribal Injury Prevention Coordinator position will be located within an urban Indian health organization, Tribal health program (or Tribal Highway Safety) or community-based Tribal program.

• The Tribal Injury Prevention Coordinator must be full-time and solely dedicated to the management, control or performance of the IPP. Positions cannot be part-time or split duties.

• Develop and maintain a systematic collection, analysis and interpretation of injury data (primary, secondary sources) for the purpose of priority setting, program planning, implementation and evaluation.

• Develop a 5-year plan (logic model, strategic planning, etc.) based on sound injury data and effective strategies. The 5-year plan will include process, impact and outcome evaluation; timeline; action steps and benchmarks.

• Develop injury prevention effective strategies that coincide with the IPP priorities (Motor vehicle, Unintentional fall prevention) and/or local Tribal injury priorities based on sound injury mortality and morbidity data. Develop and implement IPP with culturally competent information to educate and empower communities to take action in injury prevention.

• Develop or participate in an injury prevention coalition (support team, advisory group) to share resources and expertise of partners to address injuries within the Tribal community. The coalition will serve to collaborate in the planning, implementation and evaluation of projects. The coalition may consist of local Tribal members, Tribal leaders, health and social workers, injury prevention (IHS), law enforcement, business, clergy, State and other Federal advocates or key stakeholders.

• Mandatory participation of the Injury Prevention Tribal Coordinator at the annual IHS Tribal CA meeting, site visits, conference calls or at special meetings established by IHS.

2. The responsibilities for IHS to satisfy the requirements for Part I (a) and (b) new and previously funded, are as follows:

• IHS will assign an IHS Injury Prevention Specialist (Area, District) or designee to serve as the project officer (technical advisor/monitor) for the Tribal injury prevention projects.

• The IHS-assigned project officer is required to work in partnership with the Tribal Injury Prevention Coordinator in all decisions involving strategy, injury data (collection, analysis, reporting) hiring of personnel, deployment of resources, release of public information materials, quality assurance, coordination of activities, training, reports, budget and evaluation. The IHS assigned project officer will collaborate with the Tribal Injury Prevention Coordinator in determination and implementation of the injury prevention methods and approaches in injury prevention that will be utilized. Collaboration includes data analysis, interpretation of findings and reporting.

• The IHS-assigned project officer will monitor the overall progress of the grantees' program sites and their adherence to the terms and conditions of the CA. This includes providing guidance for required reports, development of tools, and other products, interpreting of program findings and assistance with evaluation.

• IHS will plan and set an agenda for an annual meeting that provides on-going training, fosters collaboration among sites, and increases visibility of programs.

• IHS will provide guidance in injury prevention training and continuing education courses to increase competencies in injury prevention.

• IHS will provide guidance in preparing articles for publication and/or presentations of program successes, lessons learned and new findings.

The Part II Effective Strategy Projects funding should be based on effectiveness, economic efficiency and feasibility of the projects. The recipient should provide evidence that there is an unmet need in their community for these projects. Injury Prevention effective strategies are those that have been tested and accepted widely to prevent injury morbidity and mortality. For further guidance on effective strategies in injury prevention, see the CDC's National Center for Injury Prevention and Control's Community Guide to Preventive Services, which can be found at the following site: http://www.thecommunityguide.org/library/book/index.html.

Specific responsibilities of the IHS and grantee for the CA for Part II Effective Strategy Projects are listed below in Sections 1 and 2:

1. Part II Effective Strategy Projects grantees`responsibilities:

• Develop a 3-year plan (logic model, strategic planning, etc) based on sound injury data and effective strategies. The 3-year plan will include process, impact and outcome objectives; timeline, action steps benchmarks and evaluation.

• Develop injury prevention effective strategies that coincide with the IHS IPP priorities and/or local Tribal injury priorities based on sound injury mortality and morbidity data.

• Develop and implement IPP with culturally competent information to educate and empower communities to take action in injury prevention.

• Document the evaluation of all program projects and initiatives, i.e., presentations/training/materials/curriculum.

• Provide program outreach and advocacy to key stakeholders, i.e., Tribal leadership, health board and community.

• Present final report for the final third year funding cycle at the annual IHS Tribal CA meeting.

• Work in partnership with the IHS-assigned project officer in all decisions involving strategy, injury data (collection, analysis, reporting), deployment of resources, release of public information materials, quality assurance, coordination of activities, training, reports, budget and evaluation.

2. Part II Effective Strategy Projects IHS responsibilities:

• IHS will assign an IHS IPP Specialist or designee to serve as the on-site project officer for the Tribal IPP.

• The IHS assigned project officer will work in partnership with the grantee in all decisions involving strategy, injury data (collection, analysis, reporting) hiring of personnel, deployment of resources, release of public information materials, quality assurance, coordination of activities, training, reports, budget and evaluation.

• The IHS assigned project officer will collaborate with the grantee in determination and implementation of the injury prevention methods and approaches that will be utilized. Collaboration will include data analysis, interpretation of findings and reporting.

• IHS will provide guidance for submission of required reports.

• IHS will provide consultation on the development of tools and other products.

• IHS will provide guidance in injury prevention training and continuing education courses as needed to increase competencies in injury prevention.

• IHS will communicate with sites through teleconferences, individual site visits and newsletters.

• IHS will provide outside monitoring to provide oversight through site visits, conference calls, technical assistance and training.

III. Eligibility Information

1. Eligible Applicants

Eligible Applicants must be one of the following:

• Federally-recognized Indian Tribe which means any Indian Tribe, band, nation, or other organized group or community, including any Alaska Native village or group or regional or village corporation as defined in or established pursuant to the Alaska Native Claims Settlement Act (85 Stat. 688) [43 U.S.C. 1601, et seq.], which is recognized as eligible for the special programs and services provided by the United States to Indians because of their status as Indians. 25 U.S.C. 1603(d).

• Tribal organization means the elected governing body of any Indian Tribe or any legally established organization of Indians which is controlled by one or more such bodies or by a board of directors elected or selected by one or more such bodies or elected by the Indian population to be served by such organization and which includes the maximum participation of Indians in all phases of its activities. 25 U.S.C. 1603(e).

• Urban Indian organization which means a non-profit corporate body situated in an urban center governed by an urban Indian controlled board of directors, and providing for the maximum participation of all interested Indian groups and individuals, which body is capable of legally cooperating with other public and private entities for the purpose of performing the activities. 25 U.S.C. 1603(h).

2. Cost Sharing or Matching

The IHS IPP does not require matching funds or cost sharing.

3. Other Requirements

Tribal Resolution(s) are required from Tribes and Tribal organizations. The resolution must be submitted by June 2, 2010, 5 p.m. Eastern Standard Time (EST) in order to be reviewed by the Objective Review Committee.

A resolution of the Indian Tribe served by the project should accompany the application submission. An Indian Tribe that is proposing a project affecting another Indian Tribe must include resolutions from all affected Tribes to be served. The official signed resolution must be submitted to the Division of Grants Operations (DGO) by June 2, 2010, 5 EST or the application will be considered incomplete and will be returned to the applicant without further consideration. The resolution may be faxed to the attention of Mr. Roscoe Brunson at (301) 443-9602.

Applicants submitting applications from urban Indian organizations must provide proof of non-profit status with the application, e.g. 501(c)3.

IV. Application and Submission Information

1. Obtaining Application Materials

Applicant package may be found on Grants.gov (http://www.grants.gov) or at: http://www.ihs.gov/NonMedicalPrograms/gogp/index.cfm?module=gogp_funding.

2. Content and Form Application Submission

The applicant must include the project narrative as an attachment to the application package.

Mandatory documents for all applicants include:

• Application forms:

• SF-424.

• SF-424A.

• SF-424B.

• Budget Narrative (must be single spaced).

• Typed in 12 font size.

• 8½″ x 11″ paper.

• Project Narrative (must not exceed 15 pages).

• Attachments must include consecutively numbered pages.

• Tribal Resolution or Tribal Letter of Support (Tribal Organizations only).

• Letter of Support from Organization's Board of Directors (Title V Urban Indian Health Programs only).

• 501(c) (3) Certificate (Title V Urban Indian Health Programs only).

• Biographical sketches for all Key Personnel.

• Disclosure of Lobbying Activities (SF-LLL) (if applicable).

• Documentation of current OMB A-133 required Financial Audit, if applicable. Acceptable forms of documentation include:

• E-mail confirmation from Federal Audit Clearinghouse (FAC) that audits were submitted; or

• Face sheets from audit reports. These can be found on the FAC Web site: http://harvester.census.gov/fac/dissem/accessoptions.html?submit=Retrieve+Records.

Public Policy Requirements

All Federal-wide public policies apply to IHS grants with exception of Lobbying and Discrimination Policies.

Requirements for Project and Budget Narratives

A. Project Narrative: This narrative should be a separate Word document that is no longer than 15 pages (see page limitations for each section noted below) with consecutively numbered pages. Be sure to place all responses and required information in the correct section or they will not be considered or scored. If the narrative exceeds the page limit, only the first 15 pages will be reviewed. There are three parts to the narrative: Section 1—Program Information; Section 2—Program Planning and Evaluation; and Section 3—Program Report. See below for additional details about what must be included in the narrative

Section 1: Program Information—(page limitation—2).

(1) Needs

• User population for Part I (a) and (b) applicants only.

Section 2: Program Planning and Evaluation—(page limitation—8).

(1) Program Plans.

(2) Program Evaluation.

Section 3: Program Report—(page limitation—5).

(1) Describe major accomplishments over the last 24 months.

(2) Describe major activities over the last 24 months.

B. Budget Narrative: This narrative must describe the budget requested and match the scope of work described the project narrative. The page limitation should not exceed 3 pages.

3. Submission Dates and Times

Applications must be submitted electronically through Grants.gov by May 28, 2010 at 12 midnight (EST). Any application received after the application deadline will not be accepted for processing and it will be returned to the applicant(s) without further consideration for funding.

If technical challenges arise and assistance is required with the electronic application process, contact Grants.gov Customer Support via e-mail to support@grants.gov or at (800) 518-4726. Customer Support is available to address questions 24 hours a day, 7 days a week (except on Federal holidays). If problems persist, contact Tammy Bagley, Division of Grants Policy (DGP) (tammy.bagley@ihs.gov) at (301) 443-5204. Please be sure to contact Ms. Bagley at least ten days prior to the application deadline. Please do not contact the DGP until you have received a Grants.gov tracking number. In the event you are not able to obtain a tracking number, call the DGP as soon as possible.

If an applicant needs to submit a paper application instead of submitting electronically via Grants.gov, prior approval must be requested and obtained.

The waiver must be documented in writing (e-mails are acceptable), before submitting a paper application. A copy of the written approval must be submitted along with the hardcopy that is mailed to the DGO. Paper applications that are submitted without a waiver will be returned to the applicant without review or further consideration. Late applications will not be accepted for processing and will be returned to the applicant without further consideration for funding.

4. Intergovernmental Review

Executive Order 12372 requiring intergovernmental review is not applicable to this program.

5. Funding Restrictions

• Pre-award costs are allowable pending prior approval from the awarding agency.

However, in accordance with 45 CFR parts 74 and 92, pre-award costs are incurred at the recipient's risk. The awarding office is under no obligation to reimburse such costs if for any reason the applicant does not receive an award or if the award to the recipient is less than anticipated.

• The available funds are inclusive of direct and appropriate indirect costs.

• Only one CA will be awarded per applicant.

• IHS will not acknowledge receipt of applications.

6. Other Submission Requirements

Use the http://www.Grants.gov Web site to submit an application electronically and select the “Apply for Grants” link on the homepage. Download a copy of the application package, complete it offline, and then upload and submit the application via the Grants.gov Web site. Electronic copies of the application may not be submitted as attachments to e-mail messages addressed to IHS employees or offices.

Applicants that receive a waiver to submit paper application documents must follow the rules and timelines that are noted below. The applicant must seek assistance at least ten days prior to the application deadline.

Applicants that do not adhere to the timelines for Central Contractor Registry (CCR) and/or Grants.gov registration and/or request timely assistance with technical issues will not be considered for a waiver to submit a paper application.

Please be aware of the following:

• Please search for the application package in Grants.gov by entering the Catalog of Federal Domestic Assistance (CFDA) number. The CFDA number is located at the header of this announcement.

• Paper applications are not the preferred method for submitting applications. However, if you experience technical challenges while submitting your application electronically, please contact Grants.gov Support directly at: http://www.Grants.gov/CustomerSupport or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (e-mails are acceptable) to GrantsPolicy@ihs.gov with a copy to Tammy.Bagley@ihs.gov. Please include a clear justification for the need to deviate from our standard electronic submission process.

• If the waiver is approved, the application should be sent directly to the DGO by the deadline date of May 28, 2010.

• Applicants are strongly encouraged not to wait until the deadline date to begin the application process through Grants.gov as the registration process for CCR and Grants.gov could take up to fifteen working days.

• Please use the optional attachment feature in Grants.gov to attach additional documentation that may be requested by the DGO. All applicants must comply with any page limitation requirements described in this funding announcement.

• After you electronically submit your application, you will receive an automatic acknowledgment from Grants.gov that contains a Grants.gov tracking number. The DGO will download your application from Grants.gov and provide necessary copies to the appropriate agency officials. Neither the DGO staff nor the IPP program staff will notify applicants that the application has been received.

E-mail applications will not be accepted under this announcement.

DUNS Number

Applicants are required to have a Data Universal Numbering System (DUNS) number to apply for this CA. The DUNS number is a unique nine-digit identification number, which uniquely identifies your entity. The DUNS number is site specific; therefore each distinct performance site may be assigned a DUNS number. Obtaining a DUNS number is easy and there is no charge. To obtain a DUNS number, you may access it through the following Web site http://fedov.dnb.com/webform or to expedite the process call (866) 705-5711.

Another important fact is that applicants must also be registered with the CCR and a DUNS number is required before an applicant can complete their CCR registration. Registration with the CCR is free of charge. Applicants may register online at http://www.ccr.gov. Additional information regarding the DUNS, CCR, and Grants.gov processes can be found at: http://www.Grants.gov.

Applicants may register by calling (866) 606-8220. Please review and complete the CCR Registration worksheet located at http://www.ccr.gov.

V. Application Review Information

Points will be assigned to each evaluation criteria adding up to a total of 100 points.

Evaluation Criteria

Total weights are assigned to each major section noted in parentheses. The instructions for preparing the application narrative also constitute the evaluation criteria for reviewing and scoring the application. Weights assigned to each section are noted in parentheses. The narrative should include all activity information for multi-year projects. Additional pages can be included in the appendix. The narrative should be written in a manner that is clear and concise. The overall proposal should be well organized (follow requirements), succinct, and contain all information necessary for reviewers to understand the project fully. IPP Part I (a) and (b) are on a five-year funding cycle (2010-2015). The narrative should include only the first year of activities and additional years of information for multi-year projects should be in an appendix. The IPP Part II is a three-year funding cycle (2010-2013). The narrative should include only the first year of activities and additional years of information for multi-year projects should be in an appendix. Please review the allowable and not allowable purchases on pages 39-41 in Section VIII Other Information.

Requirements for Project and Budget Narrative for PART I (a) New Grantees Only

A. Project Narrative includes Sections 1, 2 & 3 (total page limitation 15 pages)

Section 1: Program Information (page limitation—2).

(1) Needs (Total 20 Points):

• Describe the need for funding and injury problem supported by use of local IHS, State or national injury data in the community or target area.

• Provide description of the population to be served by the proposed program. Provide documentation that the target population is at least 2,500 people. (IHS User population is the ONLY acceptable source).

Section 2: Program Planning and Evaluation (page limitation—8).

(1) Program Plans: Program goals, objectives, methods, coalition/collaboration (Total 30 Points):

Goals must be clear and concise. Objectives must be measurable, feasible and attainable to accomplish during the 5 year project period (SMART—specific, measurable, attainable, realistic, time specific). Example: The IP Effective Strategy Tribal Team will increase front seat passenger's safety belt use at Bob Cat Canyon community to 95% by January 2015.

The methods and staffing will be evaluated on the extent to which the applicant provides:

• A description of proposed year one work plan that describes how the injury prevention effective strategy will be implemented (multi year work plan should be included in appendix with actions steps, timeline, responsible person, etc.).

• A description of the roles of the Tribal involvement, organization, or agency and evidence of coordination, supervision, and degree of commitment (e.g., time in-kind, financial) of staff, organizations, and agencies involved in activities.

• Biographical sketches (resumes) for all key personnel. Include information for consultants or contractors to be hired during the proposed project, include information in their scope of work.

• Provide organizational structure (chart) Coalition/Collaboration: Describe coalition or collaboration activities of the Tribe or urban Tribal program.

(2) Program Evaluation (Total 20 Points):

Describe how program will be evaluated to show process, effectiveness, and impact. This includes, but is not limited to, what data will be collected to evaluate the success of the proposed project objectives.

Section 3: Program Report (page limitation—5). (Total 20 Points)

(1) Describe major accomplishments over the last 24 months.

(2) Describe major activities over the last 24 months.

B. Budget Narrative: Categorical budget and budget justification not to

exceed 3 pages (Total 10 Points):

• Provide a detailed and justification of budget for the first 12-month budget periods. A budget summary should be included for each subsequent year (Year 2-Year 5).

• If indirect costs are claimed, indicate and apply the current negotiated rate to the budget. Include a copy of the current rate agreement in the appendix.

• Include travel expenses for annual workshop (mandatory participation) at a city location to be determined by IHS (Washington DC, Chicago, Denver, etc.). Include airfare, per diem, mileage, etc.

Appendix items:

• Work plan for proposed 5-year objectives and activities in a timeline format.

• Current Indirect Cost Agreement.

• Organizational chart.

• Multi-year Project requirements (if applicable).

• Letters of commitment/statement of facts.

• Injury Prevention training certificate verification.

Requirements for Project and Budget Narrative for PART I (b) Previously Funded—2005-2010 TIPCAP Grantees Only

A. Project Narrative includes Sections 1, 2 & 3 (page limitation 15 pages).

Section 1: Program Information (page limitation—2).

(1) Needs (Total 20 Points):

• Describe the needs of program. Describe the current TIPCAP program operation and scope of services that are provided.

• Provide supporting injury trend data for 2005-2010 to demonstrate impact or outcome measures.

• Describe and provide documentation of the target population of 2,500 people to be served by the proposed program and geographic location of the proposed program. (IHS User population is the ONLY acceptable source).

Section 2: Program Planning and Evaluation (page limitation—8).

(1) Program Plans: Program goals, objectives, methods, coalition/collaboration (Total 25 Points):

• Goals must be clear and concise. Objectives must be measurable, feasible and attainable to accomplish during the 5 year project period (SMART—specific, measurable, attainable, realistic, time specific).

Methods and staffing:

• A description of proposed work plan that clearly describes how the injury prevention effective strategy will be implemented (multi year work plan should be included in appendix with action steps, timeline, responsible person, etc.).

• Biographical sketches (resumes) for all key personnel. Include information for consultants or contractors to be hired during the proposed project, include information in their scope of work.

• A description of the roles of the Tribal involvement, organization, or agency and evidence of coordination, supervision, and degree of commitment (e.g., time in-kind, financial) of staff, organizations, and agencies involved in activities. Coalition/Collaboration:

• Describe the partnerships of the Tribe or urban community, the IHS, school, Tribal leadership, Federal or State agencies in facilitating accomplishments of successes in injury prevention.

(2) Program Evaluation (Total 20 Points):

Describe how program will be evaluated to show process, effectiveness, and impact. This includes, but is not limited to, what data will be collected to evaluate the success of the proposed project objectives.

Section 3: Program Report (page limitation—5). (Total 25 Points):

(1) Describe TIPCAP's major accomplishments during the years of 2005-2010.

(2) Describe TIPCAP's major activities over the last 24 months.

B. Budget Narrative Not to exceed 3 pages (Total 10 Points):

Provide a categorical budget for each of the 12-month budget periods requested. A budget summary should be included for each subsequent year (Year 2 to Year 5).

• If indirect costs are claimed, indicate and apply the current negotiated rate to the budget. Include a copy of the current rate agreement in the appendix.

• Include travel expenses for annual workshop (mandatory participation) at a city location to be determined by IHS (Washington DC, Chicago, Denver, etc.). Include airfare, per diem, mileage, etc.

Appendix items:

• Work plan for proposed 5-year objectives and activities in a time line.

• Consultant proposed scope of work (if applicable).

• Current Indirect Cost Agreement.

• Organizational chart.

• Letters of commitment/statement of facts.

• Injury Prevention training certificate verification.

Requirements for the Project and Budget Narrative for PART II—Effective Strategy Projects Only

A. Project Narrative includes Sections 1, 2 & 3 (page limitation 15 pages).

Section 1: Program Information (page limitation—2).

(1) Needs (Total 20 Points):

• Describe the needs and injury problem in the community or target area.

• Describe the Tribe's/Tribal organization's support for the proposed IP project.

• Describe the population to be served by the proposed project (no minimum population requirement).

Section 2: Program Planning and Evaluation (page limitation—8).

(1) Program Plans—Program goals, objectives, effective strategy, collaboration (Total 30 Points):

• Goals and objective must be clear and concise.

• Objectives must be measurable, feasible and attainable to accomplish during the 3 year project period (SMART—specific, measurable, attainable, realistic, time specific).

Effective Strategy method:

• Effective strategies should be based on effectiveness, economic efficiency and feasibility of the project. Provide description of the extent to which proposed projects are an effective strategy based on a documented need in the target communities.

Coalition/Collaboration:

• Describe the extent to which relationships between the programs, the Tribe or urban community, the IHS and other organizations collaboration with the project or to conduct related activities. Provide a description of the roles of Tribal involvement, organization, or agency and evidence of coordination, supervision, and degree of commitment (e.g., time, in-kind, financial) of staff, organizations, and agencies involved in activities.

(2) Program Evaluation (Total 20 Points): Describe how the project will be evaluated for program process, effectiveness, and impact. This includes, but is not limited to, what data will be collected to evaluate the success of the proposed program objectives.

Section 3: Program Report (page limitation—5). (Total 20 Points):

(1) Describe major accomplishments over the last 24 months.

(2) Describe the major activities over the last 24 months.

B. Budget Narrative Not to exceed 3 pages (Total 10 Points):

Budget Narrative: Three-year intervention projects must include a program narrative, categorical budget, and budget justification for each year of funding requested. If indirect costs are claimed, indicate and apply the current negotiated rate to the budget. Include a copy of the current rate agreement in the appendix.

Appendix Items

• Work plan & budget for proposed objectives.

• Indirect Cost Agreement.

• Organizational chart.

• Letter of commitment/statement of facts.

2. Review and Selection Process.

Each application will be prescreened by the DGO staff for eligibility and completeness as outlined in the funding announcement. Incomplete applications and applications that are non-responsive to the eligibility criteria will not be referred to the Objective Review Committee (ORC). Applicants will be notified by the DGO, via e-mail, outlining the missing components of the application. To obtain a minimum score for funding, applicants must address all program requirements and provide all required documentation. Applicants that receive less than a minimum score will be informed via e-mail of their application's deficiencies. A summary statement outlining the strengths and weaknesses of the application will be provided to these applicants. The summary statement will be sent to the Authorized Organizational Representative (AOR) that is identified on the face page of the application.

A. Proposals will be reviewed for merit by the ORC consisting of Federal and non-Federal reviewers appointed by the IHS.

B. The technical review process ensures the selection of quality projects in a national competition for limited funding. After review of the applications, rating scores will be ranked, and the applications with the highest rating scores will be recommended for funding. Applicants scoring below 60 points will be disapproved.

3. Anticipated Announcement and Award Date—July 1, 2010.

VI. Award Administration Information

1. Award Notices

The Notice of Award (NoA) will be initiated by the DGO and will be mailed via postal mail to each entity that is approved for funding under this announcement. The NoA will be signed by the Grants Management Officer, and this is the authorizing document for which funds are dispersed to the approved entities. The NoA will serve as the official notification of the grant award and will reflect the amount of Federal funds awarded, the purpose of the grant, the terms and conditions of the award, the effective date of the award, and the budget/project period. The NoA is the legally binding document and is signed by an authorized grants official within the IHS.

2. Administrative Requirements

Grants are administered in accordance with the following regulations, policies, and Office of Management and Budget (OMB) cost principles:

A. The criteria as outlined in this Program Announcement.

B. Administrative Regulations for Grants:

• 45 CFR part 92—Uniform Administrative Requirements for Grants and Cooperative Agreements to State, Local and Tribal Governments.

• 45 CFR part 74—Uniform Administrative Requirements for Awards and Sub-Awards for Institutions of Higher Education, Hospitals, Other Non-Profit Organizations, and Commercial Organizations.

C. Grants Policy:

• HHS Grants Policy Statement, 01/2007.

D. Cost Principles:

• OMB Circular A-87, State, Local, and Indian Tribal Governments (Title 2 Part 225).

• OMB Circular A-122, Non-Profit Organizations (Title 2 Part 230).

E. Audit Requirements:

• OMB Circular A-133, Audits of States, Local Governments, and Non-Profit Organizations.

3. Indirect Costs

This section applies to all grant recipients that request reimbursement of indirect costs in their grant application. In accordance with HHS Grants Policy Statement, Part II-27, IHS requires applicants to obtain a current indirect cost rate agreement prior to award. The rate agreement must be prepared in accordance with the applicable cost principles and guidance as provided by the cognizant agency or office. A current rate covers the applicable grant activities under the current award's budget period. If the current rate is not on file with the DGO at the time of award, the indirect cost portion of the budget will be restricted. The restrictions remain in place until the current rate is provided to the DGO. Generally, indirect costs rates for IHS grantees are negotiated with the Division of Cost Allocation http://rates.psc.gov/ and the Department of the Interior (National Business Center) http://www.nbc.gov/acquisition/ics/icshome.html. If your organization has questions regarding the indirect cost policy, please contact the (DGO) at (301) 443-5204.

4. Reporting Requirements

A. Progress Reports

Program progress reports are required semi-annually by March 30 and September 30 of each funding year. The report shall include a brief description of the following for each program function or activity involved:

a. Compare actual accomplishments to the goals established for the period. Provide a description of internal and external collaboration, new resources secured, intervention successes, barriers identified and plans for the next semi-annual period.

b. Indicate reasons for slippage where established goals were not met and plan of action to overcome slippages.

c. Indicate: (1) Number of Indians hired or trained; and (2) use of Indian business concerns. If none, state reasons.

d. Specify other pertinent information including analysis and explanation of cost overruns or high costs.

A final report must be submitted within 90 days of expiration of the budget/project period.

B. Financial Reports

Semi-Annual Financial Status Reports (FSR) reports must be submitted within 30 days of the end of the first 6 months of the current budget period. The Final FSRs for the budget period will be due within 90 days of the expiration of the project period. Standard Form 269 (long form for those reporting on program income; short form for all others) will be used for financial reporting.

Federal Cash Transaction Reports are due every calendar quarter to the Division of Payment Management, Payment Management Branch. Failure to submit timely reports may cause a disruption in timely payments to your organization.

Grantees are responsible and accountable for accurate reporting of the Progress Reports and FSRs which are generally due [semi-annually/annually]. FSRs (SF-269) are due 90 days after each budget period and the final SF-269 must be verified from the grantee records on how the value was derived.

Failure to submit required reports within the time allowed may result in suspension or termination of an active agreement, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the organization or the individual responsible for preparation of the reports.

Telecommunication for the hearing impaired is available at: TTY (301) 443-6394.

VII. Agency Contact(s)

Grants (Business)

Mr. Roscoe Brunson, Grants Management Specialist, 801 Thompson Ave., Reyes Bldg., Suite 360, Rockville, MD 20852. Telephone: (301) 443-5204. E-mail: Roscoe.Brunson@ihs.gov.

Program (Programmatic/Technical)

Ms. Nancy Bill, Program Manager, IPP Program, HIS, 801 Thompson Ave, Suite 120, OEHE-DEHS TWB 610, Rockville, MD 20852. Phone: (301) 443-0105. Nancy.Bill@ihs.gov.

VIII. Other Information—Allowable and Non-Allowable Items

The following will be considered allowable equipment purchases—Equipment/Construction:

(1) Costs of breath testing devices are allowable, provided the device appears on the National Highway Traffic Safety Administration (NHTSA) Conforming Products List (CPL) for this type of equipment.

(2) Police traffic radar—cost is allowable subject to the following:

• Devices must appear on the NHTSA Conforming Products List (CPL) when published in the Federal Register.

• Operators must be trained using the NHTSA radar operators training program or an approved equivalent.

• The police agency must implement a comprehensive radar operator and one to three year equipment certification program with periodic recertification once every one to three years.

(3) Costs for child restraint devices are allowable. Child safety seat restraint devices must be a “5 star rating” in accordance with the National Highway Traffic Safety Administration Federal Safety Standards (no after market devices) and strict performance standards (Federal Motor Vehicle Safety Standards, FMVSS 213,225).

(4) Cost for limited construction or home safety devices installation that is aligned with the program's objectives or targets specific outcome in reducing unintentional fall prevention projects are acceptable.

(5) Media campaign when combined with enforcement, policy, or incentive programs (print, radio and video).

The following costs are deemed unallowable costs—Equipment/Facilities:

(1) Police officer equipment—uniforms, weapons, handguns, shotguns, mace, batons, riot helmets, bulletproof vests, and ammunition.

(2) Portable scales—including costs associated with transportation and use of portable scales. Costs for large computer systems are not allowable. (Automatic Data Processing, Main Frame, LAN).

(3) Costs for commercial lease or purchase of vehicle or motorcycles.

(4) Costs of equipment maintenance or repairs of vehicles.

(5) Costs for speed measuring devices—except for enforcement purposes and related project evaluation are not allowable i.e. speed trailers.

(6) Projects related to water, sanitation and waste management.

(7) Projects that include design and planning of construction of facilities.

(8) Projects not utilizing effective strategies based on evidence or best practice.

(9) Projects with an education only activities.

(10) Animal control programs.

(11) Tribal employee defensive driving course.

IHS IPP is the lead Federal agency in the development and implementation of AI/AN IPP. IHS is directed to develop, implement, and evaluate IPP that would be successful in reducing American Indian and Alaskan Native morbidity and mortality related to injuries. The purpose of the IHS CA funding is to promote the capacity of Tribes and Tribal/urban/non-profit Indian organizations to build and sustain evidence-based IPP. The Public Health Service (PHS) strongly encourages all contracts to provide a smoke-free workplace and promote the non-use of all tobacco products. Public Law 103-227, the Pro-Children Act of 1994, prohibits smoking in certain facilities (or in some cases, any portion of the facility) in which regular or routine education, library, day care, health care of early childhood development services are provided to children. This is consistent with the IHS mission to protect and advance the physical and mental health of the AI/AN people.

Dated: April 19, 2010.
Yvette Roubideaux,
Director, Indian Health Service.

[FR Doc. 2010-9502 Filed 4-22-10; 8:45 am]

BILLING CODE 4165-16-P